FARM CREDIT ADMINISTRATION

12 CFR Chapter VI

Farm Credit Administration Board Policy Statements

AGENCY: Farm Credit Administration.

ACTION: Notice of policy statements and index.

SUMMARY: The Farm Credit Administration (FCA), as part of its annual public notification process, is publishing for notice an index of the 18 Board policy statements currently in existence. Most of the policy statements remain unchanged since our last Federal Register notice on October 24, 2013 (78 FR 63380), except for one with minor updates on Equal Employment Opportunity and Diversity.

DATES: October 22, 2014.

FOR FURTHER INFORMATION CONTACT: Dale L. Aultman, Secretary to Board, Farm Credit Administration, 1501 Farm Credit Drive, McLean Virginia 22102-5090, (703) 883-4009, TTY (703) 883-4056; or Wendy R. Laguarda, Assistant General Counsel, Office of General Counsel, Farm Credit Administration, 1501 Farm Credit Drive, McLean Virginia 22102-5090, (703) 883-4020, TTY (703) 883-4020.

SUPPLEMENTARY INFORMATION: A list of the 18 FCA Board policy statements is set forth below. FCA Board policy statements may be viewed online at www.fca.gov/handbook.nsf.

On August 20, 2014, the FCA Board reaffirmed, and made minor updates only, to FCA-PS-62 on, “Equal Employment Opportunity and Diversity.” The changes were grammatical in nature.

The policy was published in the Federal Register on August 26, 2014 (79 FR 50908). The FCA will continue to publish new or revised policy statements in their full text.

FCA Board Policy Statements

FCA-PS-34 Disclosure of the Issuance and Termination of Enforcement Documents

FCA-PS-37 Communications During Rulemaking

FCA-PS-41 Alternative Means of Dispute Resolution

FCA-PS-44 Travel

FCA-PS-53 Examination Philosophy

FCA-PS-59 Regulatory Philosophy

FCA-PS-62 Equal Employment Opportunity and Diversity

FCA-PS-64 Rules for the Transaction of Business of the Farm Credit Administration Board

FCA-PS-65 Release of Consolidated Reporting System Information

FCA-PS-67 Nondiscrimination on the Basis of Disability in Agency Programs and Activities

FCA-PS-68 FCS Building Association Management Operations Policies and Practices

FCA-PS-71 Disaster Relief Efforts by Farm Credit Institutions

FCA-PS-72 Financial Institution Rating System (FIRS)

FCA-PS-77 Borrower Privacy

FCA-PS-78 Official Names of Farm Credit Institutions

FCA-PS-79 Consideration and Referral of Supervisory Strategies and Enforcement Actions

FCA-PS-80 Cooperative Operating Philosophy—Serving the Members of Farm Credit System Institutions

FCA-PS-81 Ethics, Independence, Arm's-Length Role, Ex Parte Communications and Open Government

Dated: October 16, 2014.
Dale L. Aultman,
Secretary, Farm Credit Administration Board.

[FR Doc. 2014-25131 Filed 10-21-14; 8:45 am]

BILLING CODE 6705-01-P